NATIONAL SCIENCE FOUNDATION

Innovative Technology Experiences for Students and Teachers (ITEST) Program; Comment Request

AGENCY: National Science Foundation.

ACTION: Notice.

SUMMARY: Under the Paperwork Reduction Act of 1995, Public Law 104-13 (44 U.S.C. 3506(c)(2)(A)), and as part of its continuing effort to reduce paperwork and respondent burden, the National Science Foundation invites the general public and other Federal agencies to take this opportunity to comment on this information collection. This is the second notice for public comment; the first was published in the Federal Register at 74 FR 68637 and one comment was received regarding the materials provided. NSF is forwarding the proposed submission to the Office of Management and Budget (OMB) for clearance simultaneously with the publication of this second notice. The full submission may be found at: http://www.reginfo.gov/public/do/PRAMain.

DATES: Comments regarding these information collections are best assured of having their full effect if received by OMB within 30 days of publication in the Federal Register.

ADDRESSES: Written comments regarding the information collection and requests for copies of the proposed information collection request should be addressed to Suzanne Plimpton, Reports Clearance Officer, National Science Foundation, 4201 Wilson Blvd., Rm. 295, Arlington, VA 22230, or by email to splimpto@nsf.gov. Copies of the submission may be obtained by calling (703) 292-7556.

FOR FURTHER INFORMATION CONTACT: Contact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including Federal holidays).

An agency may not conduct or sponsor a collection of information unless the collection of information displays a currently valid OMB control number and the agency informs potential persons who are to respond to the collection of information that such persons are not required to respond to the collection of information unless it displays a currently valid OMB control number.

SUPPLEMENTARY INFORMATION:

Title of Collection: Innovative Technology Experiences for Students and Teachers (ITEST) Program.

Evaluation for the National Science Foundation

OMB Number: 3145-New.

Expiration Date of Approval: Not applicable.

Type of request: Initial clearance.

Abstract: Innovative Technology Experiences for Students and Teachers (ITEST) is a National Science Foundation program that responds to current concerns and projections about the growing demand for professionals and information technology workers in the U.S. and seeks solutions to help ensure the breadth and depth of the STEM workforce. Information technologies are integral to both the workplace and everyday activities of most Americans. They are part of how people learn, how they interact with each other and information, and how they represent and understand their world. Attaining a basic understanding of these technologies and mastery of essential technical skills is a requirement for anyone to benefit from innovation in the modern world. The technological growth of the nation depends on a technologically literate citizenry. ITEST is designed to increase the opportunities for students and teachers to learn about, experience, and use information technologies within the context of science, technology, engineering, and mathematics (STEM), including Information Technology (IT) courses. Supported projects are intended to provide opportunities for K-12 children and teachers to build the skills and knowledge needed to advance their study, and to function and to contribute in a technologically rich society. Additionally, exposure to engaging applications of IT is a means to stimulate student interest in the field and an important precursor to the academic preparation needed to pursue IT careers.

The ITEST program evaluation will characterize the variety of ITEST projects, measure the rigor of individual project evaluations, estimate outcomes for students and teachers involved in a sample of projects, and identify exemplary project models. In order to accomplish these tasks, the ITEST program evaluation will employ a mixed-method approach including case studies, quasi-experiments, and extensive document review. This information collection request will include a series of protocols to be used while conducting site visit interviews, a list of documents to be requested during visits, and a student-survey instrument to measure project outcomes.

Estimate of Burden:

Respondents: Individuals.

Frequency: Annual.

Estimated Number of Respondents: 984.

Estimated Burden Hours on Respondents: 984 hours.

Comments: Comments are invited on (a) whether the proposed collection of information is necessary for the proper performance of the functions of the Agency, including whether the information shall have practical utility; (b) the accuracy of the Agency's estimate of the burden of the proposed collection of information; (c) ways to enhance the quality, utility, and clarity of the information; and (d) ways to minimize the burden of the collection of information on those who are to respond, including through the use of appropriate automated, electronic, mechanical, or other technological collection techniques or other forms of information technology.

Comments submitted in response to this notice will be summarized and/or included in the request for OMB approval of this information collection; they also will become a matter of public record.

Dated: April 10, 2012.
Suzanne H. Plimpton,
Reports Clearance Officer, National Science Foundation.

[FR Doc. 2012-8894 Filed 4-12-12; 8:45 am]

BILLING CODE 7555-01-P